FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at 202/523-5793 or tradeanalysis@fmc.gov.

Agreement No.: 012293-001.

Title: Maersk/MSC Vessel Sharing Agreement.

Parties: A.P. Moller-Maersk A/S trading under the name of Maersk Line; and MSC Mediterranean Shipping Company S.A.

Filing Party: Wayne Rohde, Esq.; Cozen O'Connor; 1627 I Street NW., Suite 1100, Washington, DC 20006.

Synopsis: The amendment would expand the geographic scope in include France, ports on the Black Sea, and Indonesia.

Agreement No.: 201160-004.

Title: Marine Terminal Lease and Operating Agreement Between Broward County and Mediterranean Shipping Company S.A.

Parties: Broward County and MSC Mediterranean Shipping Company S.A.

Filing Party: Candace J. Running; Broward County Board of County Commissioners; Office of the County Attorney; 1850 Eller Drive, Suite 502, Fort Lauderdale, FL 33316.

Synopsis: The amendment updates various rates and charges and updates the insurance clause of the agreement.

By Order of the Federal Maritime Commission.
Dated: September 19, 2014.
Karen V. Gregory,
Secretary.

[FR Doc. 2014-22727 Filed 9-23-14; 8:45 am]

BILLING CODE 6730-01-P